DEPARTMENT OF ENERGY

Federal Energy Regulatory Commission

Notice of Amendment of License and Soliciting Comments, Motions To Intervene, and Protests

August 15, 2000.

Take notice that the following hydroelectric application has been filed with the Commission and is available for public inspection:

a. Application Type: Amendment to License.

b. Project No: 2177-040.

c. Date Filed: July 31, 2000.

d. Applicant: Georgia Power Company.

e. Name of Project: Middle Chattahoochee.

f. Location: On the Chattahoochee River, in Lee, Alabama, and Harris and Muscogee Counties, Georgia.

g. Filed Pursuant to: 18 CFR 4.200.

h. Applicant Contact: Mr. R.L. Boyer, Vice President, Power Generation, Georgia Power Company, 241 Ralph McGill Blvd. NE, Bin 10170, Atlanta, GA 30308. (404) 506-7892.

i. FERC Contact: Any questions on this notice should be addressed to Anumzziatta Purchiaroni at (202) 219-3297, or e-mail address: anumzziatta.purchiaroni@ferc.fed.us

j. Deadline for filing comments and or motions: September 14, 2000.

All documents (original and eight copies) should be filed with: David P. Boergers, Secretary, Federal Energy Regulatory Commission, 888 First Street, NE., Washington, DC 20426.

Please include the project number (2177-040) on any comments or motions filed.

k. Description of Amendment: The licensee proposes to add capacity to two of six existing generating units at the Goat Rock powerhouse. The existing generating units 1 and 2 would be replaced by two new horizontal bulb turbines and two new generators. The capacity addition would improve hydraulic balance of the existing system of hydropower reservoirs on the middle reach of the Chattahoochee River. It would also increase generating capacity of the project from 116.7 MW to 129.3 MW.

l. Locations of the application: A copy of the application is available for inspection and reproduction at the Commission's Public Reference Room, located at 888 First Street, NE, Room 2A, Washington, DC 20426, or by calling (202) 208-1371. This filing may be viewed on http://www.ferc.fed.us/online/rims.htm. Call (202) 208-2222 for assistance. A copy is also available for inspection and reproduction at the address in item h. above.

m. Individuals desiring to be included on the Commission's mailing should so indicate by writing to the Secretary of the Commission.

Comments, Protests, or Motions to Intervene—Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date of the particular application.

Filing and Service of Responsive Decuments—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-21150 Filed 8-18-00; 8:45 am]

BILLING CODE 6717-01-M